DEPARTMENT OF THE TREASURY

31 CFR Subtitles A and B

Semiannual Agenda and Fiscal Year 2014 Regulatory Plan

AGENCY: Department of the Treasury.

ACTION: Semiannual regulatory agenda and annual regulatory plan.

SUMMARY: This notice is given pursuant to the requirements of the Regulatory Flexibility Act and Executive Order (EO) 12866 (“Regulatory Planning and Review”), which require the publication by the Department of a semiannual agenda of regulations. EO 12866 also requires the publication by the Department of a regulatory plan for the upcoming fiscal year.

FOR FURTHER INFORMATION CONTACT: The Agency contact identified in the item relating to that regulation.

SUPPLEMENTARY INFORMATION: The semiannual regulatory agenda includes regulations that the Department has issued or expects to issue and rules currently in effect that are under departmental or bureau review. For this edition of the regulatory agenda, the most important significant regulatory actions and a Statement of Regulatory Priorities are included in the Regulatory Plan, which appears in both the online Unified Agenda and in part II of the Federal Register publication that includes the Unified Agenda.

Beginning with the fall 2007 edition, the Internet has been the primary medium for disseminating the Unified Agenda. The complete Unified Agenda will be available online at www.reginfo.gov and www.regulations.gov, in a format that offers users an enhanced ability to obtain information from the Agenda database. Because publication in the Federal Register is mandated for the regulatory flexibility agenda required by the Regulatory Flexibility Act (5 U.S.C. 602), Treasury's printed agenda entries include only:

(1) Rules that are in the regulatory flexibility agenda, in accordance with the Regulatory Flexibility Act, because they are likely to have a significant economic impact on a substantial number of small entities; and

(2) Rules that have been identified for periodic review under section 610 of the Regulatory Flexibility Act.

Printing of these entries is limited to fields that contain information required by the Regulatory Flexibility Act's Agenda requirements. Additional information on these entries is available in the Unified Agenda published on the Internet. In addition, for fall editions of the Agenda, the entire Regulatory Plan will continue to be printed in the Federal Register, as in past years.

The semiannual agenda and The Regulatory Plan of the Department of the Treasury conform to the Unified Agenda format developed by the Regulatory Information Service Center (RISC).

Dated: August 27, 2013.
Brian J. Sonfield,
Deputy Assistant General Counsel for General Law and Regulation.

Comptroller of the Currency—Completed Actions
Sequence No. | Title | Regulation Identifier No.
381 | Strengthening Tier 1 Capital Other Capital Enhancements, Standardized Approach (Basel III) | 1557-AD46

Internal Revenue Service—Proposed Rule Stage
Sequence No. | Title | Regulation Identifier No.
382 | Reporting and Notice Requirements Under Section 6056 | 1545-BL26

DEPARTMENT OF THE TREASURY (TREAS)

Comptroller of the Currency (OCC)

Completed Actions

381. Strengthening Tier 1 Capital Other Capital Enhancements, Standardized Approach (Basel III)

Legal Authority: 12 U.S.C. 1 et seq.; 12 U.S.C. 24a; 12 U.S.C. 93a; 12 U.S.C. 161; 12 U.S.C. 215a-2; 12 U.S.C. 215a-3; 12 U.S.C. 481; 12 U.S.C. 1462 to 1462a; 12 U.S.C. 1463 to 1464; 12 U.S.C. 1467a; 12 U.S.C. 1818; 12 U.S.C. 1828 note; 12 U.S.C. 1828(n); 12 U.S.C. 1831n note; 12 U.S.C. 1831o; 12 U.S.C. 1835; 12 U.S.C. 3907; 12 U.S.C. 3909; 12 U.S.C. 5412(b)(2)(B)

Abstract: Regulatory Capital Rules—Basel III (12 CFR parts 3, 5, 6, 165, 167). The banking agencies (OCC and Board of Governors of the Federal Reserve System (Federal Reserve) have issued a final rule that revises their risk-based and leverage capital requirements for banking organizations. (The Federal Deposit Insurance Corporation (FDIC) separately issued an interim final rule that is substantively the same as the OCC and Federal Reserve final rule.) The final rule consolidates three separate proposed rules that the banking agencies published on August 30, 2012 (77 FR 52792, 52888, 52978), into one final rule. The final rule implements a revised definition of regulatory capital, a new common equity tier 1 minimum capital requirement, a higher minimum tier 1 capital requirement, and, for banking organizations subject to the advanced approaches risk-based capital rules, a supplementary leverage ratio that incorporates a broader set of exposures in the denominator. The final rule incorporates new requirements into the banking agencies' prompt corrective action framework and establishes limits on a banking organization's capital distributions and certain discretionary bonus payments if the banking organization does not hold a specified amount of common equity tier 1 capital in addition to the amount necessary to meet its minimum risk-based capital requirements. The final rule amends the methodologies for determining risk-weighted assets for all banking organizations, and introduces disclosure requirements that would apply to top-tier banking organizations domiciled in the United States with $50 billion or more in total assets. The final rule also adopts changes required by the Dodd-Frank Wall Street Reform and Consumer Protection Act of 2010 (Pub. L. 111-203) to implement more stringent capital and leverage requirements and to replace regulatory references to credit ratings with new creditworthiness measures. In addition, the OCC has amended the market risk capital rule to apply to Federal savings associations. The final rule was published on October 11, 2013. 78 FR 62018.

Completed:

Reason | Date | FR Cite
Final Action | 10/11/13 | 78 FR 62018
Final Action Effective | 01/01/14

Regulatory Flexibility Analysis Required: Yes.

Agency Contact: Carl Kaminski, Phone: 202 649-6294, Email: carl.kaminski@occ.treas.gov.

RIN: 1557-AD46

DEPARTMENT OF THE TREASURY (TREAS)

Internal Revenue Service (IRS)

Proposed Rule Stage

382. Reporting and Notice Requirements Under Section 6056

Legal Authority: 26 U.S.C. 7805; 26 U.S.C. 6056

Abstract: Proposed regulations under section 6056 of the Internal Revenue Code, as enacted by the Affordable Care Act, to provide guidance on rules that require applicable large employers to file certain information with the Internal Revenue Service on coverage under an eligible employer-sponsored health plan and furnish to individuals statements that set forth the information required to be reported to the Internal Revenue Service.

Timetable:

Action | Date | FR Cite
NPRM | 12/00/13 |

Regulatory Flexibility Analysis Required: Yes.

Agency Contact: Ligeia M. Donis, General Attorney, Department of the Treasury, Internal Revenue Service, 1111 Constitution Avenue NW., Room 4312, Washington, DC 20224, Phone: 202 622-0047, Fax: 202 622-5697, Email: ligeia.m.donis@irscounsel.treas.gov.

R. Lisa Mojiri-Azad, Senior Technician Reviewer, Department of the Treasury, Internal Revenue Service, 1111 Constitution Avenue NW., Washington, DC 20224, Phone: 202 622-6060, Email: Lisa.mojiri-azad@irscounsel.treas.gov.

RIN: 1545-BL26

[FR Doc. 2013-29638 Filed 1-6-14; 8:45 am]

BILLING CODE 4810-25-P